NUCLEAR REGULATORY COMMISSION

[NRC-2017-0055; NRC-2017-0054]

Request for a License To Export Radioactive Waste; UniTech Service Group, Inc.

AGENCY: Nuclear Regulatory Commission.

ACTION: Return of import license application and reopening of comment period for export license.

SUMMARY: The NRC is reopening the opportunity for public comment and reopening the opportunity to request a hearing or a petition to intervene for an application to export radioactive waste filed by UniTech Service Group, Inc. (UniTech).

DATES: The comment period for the “Request for a License to Export Radioactive Waste” (82 FR 10919; February 16, 2017 (as corrected in March 06, 2017; 82 FR 12641)), has been reopened. Comments should be filed no later than May 5, 2017. Comments received after this date will be considered, if it is practical to do so, but the Commission is able to ensure consideration only for comments received on or before this date.

ADDRESSES: You may submit comments by any of the following methods:

• Federal Rulemaking Web site: Go to http://www.regulations.gov and search for NRC-2017-0054. Address questions about NRC dockets to Carol Gallagher; telephone: 301-415-3463; email: Carol.Gallagher@nrc.gov. For technical questions, contact the individual listed in the FOR FURTHER INFORMATION CONTACT section of this document.

• Email comments to: Hearingdocket@nrc.gov. If you do not receive an automatic email reply confirming receipt, then contact the Office of the Secretary at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrea Jones, Office of International Programs, U.S. Nuclear Regulatory Commission, Washington, DC 20555-0001; telephone: 301-287-9072, email: Andrea.Jones2@nrc.gov.

SUPPLEMENTARY INFORMATION:

I. Obtaining Information and Submitting Comments

A. Obtaining Information

Please refer to Docket ID NRC-2017-0054, when contacting the NRC about the availability of information for this action. You may obtain publicly-available information related to this action by any of the following methods:

• Federal rulemaking Web site: Go to http://www.regulations.gov and search for NRC-2017-0054.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2017-0054, in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On October 27, 2016, the NRC received an application for a specific import license (IW034) from UniTech to import 10,000 metric tons of byproduct material in the form of radioactive-contaminated tools, metals, and other solid materials, along with incremental amounts of special nuclear material (less than fifteen grams per shipment). On October 27, 2016, the NRC also received an associated application for a specific export license (XW023) from UniTech to export 10,000 metric tons of byproduct material, along with incremental amounts of special nuclear material (less than fifteen grams per shipment). As further explained in the March 30, 2017, letter from David Skeen (ADAMS Accession No. ML17086A272), Deputy Director, Office of International Programs, NRC, to Glenn Roberts, Corporate Health Physicist, UniTech, the NRC has returned UniTech's application for a specific import license without action because the requested import activities are authorized under an NRC general import license.

Therefore, the only regulatory action pending before the NRC is UniTech's application for a specific export license (XW023) to export low-level radioactive waste to Canada. The NRC is reopening both the public comment period and the opportunity to file a request for a hearing or petition for leave to intervene on XW023 for an additional 30 days after publication of this notice in the Federal Register (FR). Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007 (72 FR 49139; August 28, 2007). Information about filing electronically is available on the NRC's public Web site at http://www.nrc.gov/site-help/e-submittals.html. To ensure timely electronic filing, at least 5 days prior to the filing deadline, the petitioner/requestor should contact the Office of the Secretary by email at hearingdocket@nrc.gov, or by calling 301-415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

Dated at Rockville, Maryland, this 30th day of March 2017.
For the Nuclear Regulatory Commission.
David L. Skeen,
Deputy Director, Office of International Programs.

[FR Doc. 2017-06725 Filed 4-4-17; 8:45 am]

BILLING CODE 7590-01-P